DEPARTMENT OF HEALTH AND HUMAN SERVICES

Administration for Children and Families

Submission for OMB Review; Comment Request

Title: AFI Financial Education Practices and Cost Study.

OMB No.: New.

Description

The Office of Community Services (OCS) within the Administration for Children and Families is conducting a descriptive study of Financial Education Practices among Assets for Independence (AFI) grantees to increase its knowledge about current practices in financial education for AFI participants and the costs involved to provide the financial education.

The Assets for Independence program is a national demonstration through which OCS awards grants to community-based nonprofit organizations, and State, local, and Tribal government agencies nationwide. The AFI program is authorized in Section 402 of the Community Opportunities, Accountability, and Training and Educational Services Act of 1998 (Title IV of Public Law 105-285). Grantees implement five year projects that empower low-income families and individuals to save earned income and purchase an economic asset as a means for becoming economically self-sufficient. Grantees provide eligible low-income individuals and families access to matched savings accounts, known as individual development accounts (IDAs). In addition, grantees provide asset-building services to program participants, such as financial literacy education, and specialized asset-specific training regarding asset purchase and ownership.

This data collection effort will provide OCS with a better understanding of the future needs of AFI grantees in financial education and help OCS to build strategies to strengthen the quality of the financial education provided to AFI participants. The data collection will be collected once through two instruments: The Survey of Financial Education Practices of AFI Grantees and the AFI Financial Education Cost Data Form.

The Survey of Financial Education Practices of AFI Grantees will be a Web-based survey consisting mainly of multiple choice questions. All current AFI grantees (approximately 300 grantees) will be asked to complete the survey. The AFI Financial Education Cost Data Form is a supplement to the grantee practices survey. A smaller sample of grantees (approximately 35 grantees) representing a variety of organizational types will be randomly selected to complete this supplemental survey on the costs of providing financial education. The Cost Data Form will be sent to grantees to complete and technical assistance will be provided to grantees to help them complete the form.

Specific areas to be covered in this study include: topics covered by financial education; formats used in delivering financial education; assessment tools that are used to determine participant needs and effectiveness of training efforts; challenges encountered in providing financial education; training materials used; costs and sources of funding for training; strategies for tracking participant progress in developing financial skills; and participant outcomes related to financial education.

Respondents

All active AFI grantee agencies, their partners or sub-grantees, an estimated 300 agencies will respond to IC1, a Survey of Financial Education Practices.

IC2, the Financial Education cost form, will be administered to financial personnel of all active AFI grantees who have completed at least three years of their five-year project period, an estimated 30 agencies.

IC3, the Financial Education cost form, will be administered to financial personnel of all active AFI sub grantees who have completed at least three years of their five-year project period, an estimated 42 agencies.

Annual Burden Estimates
Instrument | Number of respondents | Number of responses per respondent | Average burden hours per response | Total burden hours
AFI grantee agencies, their partner or sub-grantees | 300 | 1 | 1 | 300
AFI grantee agencies' financial personnel | 30 | 1 | 2 | 60
AFI sub grantees financial personnel | 42 | 1 | 2 | 84

Estimated Total Annual Burden Hours: 444.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget,

Paperwork Reduction Project,

Fax: 202-395-7285,

E-mail: oira_submission@omb.eop.gov,

Attn: Desk Officer for the Administration for Children and Families.

Robert Sargis,
Reports Clearance Officer.

[FR Doc. 2011-14305 Filed 6-8-11; 8:45 am]

BILLING CODE 4184-01-P